DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Medical Expenditure Panel Survey (MEPS) Social and Health Experiences Self-Administered Questionnaire.”

DATES: Comments on this notice must be received by 60 days after date of publication of this notice.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by emails at doris.lefkowitz@AHRQ.hhs.gov.

SUPPLEMENTARY INFORMATION:

Proposed Project

“Medical Expenditure Panel Survey (MEPS) Social and Health Experiences Self-Administered Questionnaire.”

The Medical Expenditure Panel Survey (MEPS) consists of the following three components and has been conducted annually since 1996:

• Household Component: A sample of households participating in the National Health Interview Survey (NHIS) in the prior calendar year are interviewed 5 times over a 2 and one-half (2.5) year period. These 5 interviews yield two years of information on use of, and expenditures for, health care, sources of payment for that health care, insurance status, employment, health status and health care quality.

• Medical Provider Component: The MEPS-MPC collects information from medical and financial records maintained by hospitals, physicians, pharmacies and home health agencies named as sources of care by household respondents.

• Insurance Component (MEPS-IC): The MEPS-IC collects information on establishment characteristics, insurance offerings and premiums from employers. The MEPS-IC is conducted by the Census Bureau for AHRQ and is cleared separately.

This request is for the MEPS-HC only. The OMB Control Number for the MEPS-HC and MPC is 0935-0118, which was last approved by OMB on November 8, 2019, and will expire on November 30, 2022.

The purpose of this request is to integrate the new self-administered questionnaire (SAQ) entitled, “Social and Health Experiences,” into the MEPS. This SAQ will include questions in a dual mode (web and paper) self-administered questionnaire about social and behavioral determinants of health including questions about housing affordability and quality, neighborhood characteristics, food security, transportation needs, financial strain, smoking and physical activity, and experiences with discrimination, social support, general well-being, personal safety, and adverse circumstances in childhood. The information collected will be used to examine the relationship between measures of the social determinants of health and measures of health status, and the use and expense of health care services. The goal of this survey is to help understand the relationship between social determinants of health and health care need in order to ultimately improve health care and health.

This study is being conducted by AHRQ through its contractors, Westat and RTI International, pursuant to AHRQ's statutory authority to conduct and support research on healthcare and on systems for the delivery of such care, including activities with respect to the cost and use of health care services and with respect to health statistics and surveys. 42 U.S.C. 299a(a)(3) and (8); 42 U.S.C. 299b-2.

Method of Collection

Data collection will be for adults (aged 18 and over). AHRQ proposes a mixed-mode (web and paper) primarily to further protect respondents' privacy due to the sensitive nature of some of the items. Web completion will be the main mode with paper offered to those with barriers to internet access.

Estimated Annual Respondent Burden

Exhibit 1 shows the estimated annualized burden hours for respondents' time to participate in this research. The Social and Health Experiences SAQ will be completed during Round 1, Panel 26, Round 3, Panel 25, and Round 5, Panel 24, by each person in the Reporting Unit (RU) that is 18 years old and older, an estimated 27,059 persons, and takes about 7 minutes to complete. The total annualized burden is estimated to be 3,157 hours.

Exhibit 2 shows the estimated annualized cost burden associated with respondents' time to participate in this research. The total cost burden is estimated to be $81,198 annually.

Exhibit 1—Estimated Annualized Burden Hours
Activity | Number of respondents | Number of responses per respondent | Hours per response | Total burden hours
Social and Health Experiences SAQ; Adult SAQ—Year 2021 | 27,059 | 1 | 7/60 | 3,157
Total | 27,059 | n/a | n/a | 3,157

Exhibit 2—Estimated Annualized Cost Burden
Activity | Number of respondents | Total burden hours | Average hourly wage rate * | Total cost burden
Social and Health Experiences SAQ (SDOH); Adult SAQ—Year 2021 | 27,059 | 3,157 | $25.72 | $81,198
Total | 27,059 | 3,157 | n/a | 81,198
* Mean hourly wage for All Occupations (00-0000).
Occupational Employment Statistics, May 2019 National Occupational Employment and Wage Estimates United States, U.S. Department of Labor, Bureau of Labor Statistics https://www.bls.gov/oes/current/oes_nat.htm#00-0000.

Request for Comments

In accordance with the Paperwork Reduction Act, comments on AHRQ's information collection are requested with regard to any of the following: (a) Whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: May 1, 2020.
Virginia L. Mackay-Smith,
Associate Director.

[FR Doc. 2020-09724 Filed 5-6-20; 8:45 am]

BILLING CODE 4160-90-P